DEPARTMENT OF AGRICULTURE

Agricultural Marketing Service

7 CFR Part 981

[Docket No. FV04-981-2]

Almonds Grown in California; Continuance Referendum

AGENCY: Agricultural Marketing Service, USDA.

ACTION: Referendum order.

SUMMARY: This document directs that a referendum be conducted among eligible growers of California almonds to determine whether they favor continuance of the marketing order regulating the handling of almonds grown in the production area.

DATES: The referendum will be conducted from February 9 through March 5, 2004. To vote in this referendum, growers must have been producing California almonds during the period August 1, 2002, through July 31, 2003.

ADDRESSES: Copies of the marketing order may be obtained from the office of the referendum agent at 2202 Monterey Street, suite 102B, Fresno, California 93721, or the Office of the Docket Clerk, Marketing Order Administration Branch, Fruit and Vegetable Program, AMS, USDA, 1400 Independence Avenue SW., Stop 0237, Washington, DC 20250-0237.

FOR FURTHER INFORMATION CONTACT: Martin Engeler, Assistant Regional Manager, California Marketing Field Office, Marketing Order Administration Branch, Fruit and Vegetable Programs, Agricultural Marketing Service, U.S. Department of Agriculture, 2202 Monterey Street, suite 102B, Fresno, California 93721; telephone (559) 487-5901; fax (559) 487-5906; or Anne Dec, Rulemaking Team Leader, Marketing Order Administration Branch, Fruit & Vegetable Programs, Agricultural Marketing Service, U.S. Department of Agriculture, 1400 Independence Avenue SW, Stop 0237, Washington, DC 20250-0237; telephone (202) 720-2491; fax (202) 720-8938.

SUPPLEMENTARY INFORMATION: Pursuant to Marketing Order No. 981 (7 CFR Part 981), hereinafter referred to as the “order” and the applicable provisions of the Agricultural Marketing Agreement Act of 1937, as amended (7 U.S.C. 601-674), hereinafter referred to as the “Act,” it is hereby directed that a referendum be conducted to ascertain whether continuance of the order is favored by the growers. The referendum shall be conducted during the period February 9 through March 5, 2004, among California almond growers in the production area. Only growers that were engaged in the production of California almonds during the period of August 1, 2002, through July 31, 2003, may participate in the continuance referendum.

USDA has determined that continuance referenda are an effective means for determining whether growers favor continuation of marketing order programs. The Department would consider termination of the order if less than two-thirds of the growers voting in the referendum and growers of less than two-thirds of the volume of California almonds represented in the referendum favor continuance. In evaluating the merits of continuance versus termination, the USDA will not only consider the results of the continuance referendum. The USDA will also consider all other relevant information concerning the operation of the order and the relative benefits and disadvantages to growers, handlers, and consumers in order to determine whether continued operation of the order would tend to effectuate the declared policy of the Act.

In accordance with the Paperwork Reduction Act of 1995 (44 U.S.C. chapter 35), the ballot materials to be used in the referendum herein ordered have been submitted to and approved by the Office of Management and Budget (OMB) and have been assigned OMB No. 0581-0071 for California almonds. It has been estimated that it will take an average of 10 minutes for each of the approximately 7,000 growers of California almonds to cast a ballot. Participation is voluntary. Ballots postmarked after March 5, 2004, will not be included in the vote tabulation.

Martin Engeler of the California Marketing Field Office, Fruit and Vegetable Programs, Agricultural Marketing Service, USDA, is hereby designated as the referendum agent of the Department to conduct such referendum. The procedure applicable to the referendum shall be the “Procedure for the Conduct of Referenda in Connection With Marketing Orders for Fruits, Vegetables, and Nuts Pursuant to the Agricultural Marketing Agreement Act of 1937, as Amended” (7 CFR 900.400 et seq.).

Ballots will be mailed to all growers of record and may also be obtained from the referendum agent and from his appointees.

List of Subjects in 7 CFR Part 981

Almonds, Marketing agreements, Nuts, Reporting and recordkeeping requirements.

Authority: 7 U.S.C. 601-674.

Dated: December 30, 2003.
Kenneth C. Clayton,
Associate Administrator, Agricultural Marketing Service.

[FR Doc. 04-169 Filed 1-5-04; 8:45 am]

BILLING CODE 3410-02-P